DEPARTMENT OF TRANSPORTATION

[Docket RSPA-98-4957; Notice 04-02]

Research and Special Programs Administration

AGENCY: Research and Special Programs Administration, DOT.

ACTION: Notice of information collection renewal and request for public comments.

SUMMARY: As required by the Paperwork Reduction Act of 1995, the Research and Special Programs Administration's (RSPA) Office of Pipeline Safety (OPS) is publishing a notice indicating its intention to renew an existing information collection in support of RSPA/OPS's requirement that pipeline operators submit drug and alcohol test results for their employees. The purpose of this notice is to allow the public 60 days from the date of this notice to send in their comments.

RSPA/OPS believes that its drug and alcohol testing requirements are an important tool for operators to monitor drug and alcohol usage in the pipeline industry. RSPA/OPS has found, on a yearly basis, that less than 1% of employees in the pipeline industry tested positive for drug and alcohol usage.

DATES: Comments on this notice must be received no later than March 22, 2004, to be assured of consideration.

ADDRESSES: You must identify docket number RSPA-98-4957; Notice 04-02 at the beginning of your comments. Comments may be mailed to the U.S. Department of Transportation (DOT), Dockets Facility, Plaza 401, 400 Seventh St., SW., Washington, DC 20590 or sent by e-mail to dms.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

FOR FURTHER INFORMATION CONTACT: Marvin Fell, Office of Pipeline Safety, Research and Special Programs Administration, Department of Transportation, 400 Seventh Street, SW., Washington, DC. 20950, (202) 366-6205 or by e-mail at Marvin.fell@rspa.dot.gov.

SUPPLEMENTARY INFORMATION: Abstract: Drug and alcohol abuse is a major societal problem and it is reasonable to assume the problem exists in the pipeline industry as it does in society as a whole. The potential harmful effect of drug and alcohol abuse on safe pipeline operations warrants imposing comprehensive testing regulations on the pipeline industry. These rules are found in 49 CFR 199.

Title: Drug and Alcohol Testing of Pipeline Operators.

OMB Number: 2137-0579.

Type of Request: Extension of an existing information collection.

Estimate of Burden: 1.22 hours per operator.

Respondents: Pipeline operators.

Estimated Number of Respondents: 2,419.

Estimated Total Annual Burden on Respondents: 2,963 hours.

Copies of this information collection can be reviewed at the Dockets Unit, Room 8421, Research and Special Programs Administration, U.S. Department of Transportation, 400 Seventh Street, SW., Washington, DC. You may review the public docket containing comments in person in the Dockets Office between 9 a.m. and 5 p.m., Monday through Friday except Federal Holidays. You may also review public dockets on the Internet at http://dms.dot.gov/search. Once on the search page, type in the last four digits of the docket number shown at the beginning of this notice (4957) and click on “search.”

Comments are invited on: (a) The need for the proposed collection of information for the proper performance of the functions of the agency, including whether the information will have practical utility; (b) the accuracy of the agency's estimate of the burden of the proposed collection of information including the validity of the methodology and assumptions used; (c) ways to enhance the quality, utility and clarity of the information to be collected; and (d) ways to minimize the burden of the collection of information on those who are to respond, including the use of appropriate automated, electronic, mechanical, or other technological collection techniques.

Issued in Washington, DC, on January 14, 2004.
Richard D. Huriaux,
Manager, Regulations, Office of Pipeline Safety.

[FR Doc. 04-1333 Filed 1-21-04; 8:45 am]

BILLING CODE 4910-60-P